DEPARTMENT OF COMMERCE

National Oceanic and Atmospheric Administration

15 CFR Part 922

Findings on the Active Candidate Status of the Proposed Designation of Wisconsin-Lake Michigan National Marine Sanctuary

AGENCY: Office of National Marine Sanctuaries (ONMS), National Ocean Service (NOS), National Oceanic and Atmospheric Administration (NOAA), Department of Commerce (DOC).

ACTION: Findings on Active Candidate Status.

SUMMARY: The National Oceanic and Atmospheric Administration (NOAA) is publishing findings concerning the status of its proposal to designate the Wisconsin-Lake Michigan National Marine Sanctuary (WLMNMS) in order to fulfill the procedural requirements of the National Marine Sanctuaries Act (NMSA).

DATES: The designation deadline was July 9, 2019.

ADDRESSES: Russ Green, Regional Coordinator, Northeast and Great Lakes Region, University of Wisconsin-Sheboygan, One University Drive, Sheboygan, WI 53081.

FOR FURTHER INFORMATION CONTACT: Russ Green, Regional Coordinator, Northeast and Great Lakes Region at (920) 459-4425 or russ.green@noaa.gov.

SUPPLEMENTARY INFORMATION: The National Marine Sanctuaries Act (NMSA; 16 U.S.C. 1431 et seq.) authorizes NOAA (by delegation from the Secretary of Commerce) to designate and protect as national marine sanctuaries areas of the marine environment that are of special national significance due to their conservation, recreational, ecological, historical, scientific, cultural, archeological, educational, or esthetic qualities. Section 304 of the NMSA establishes the sanctuary designation procedures and timelines (16 U.S.C. 1434).

Section 304(b)(1) of the NMSA reads, “The Secretary shall issue a notice of designation with respect to a proposed national marine sanctuary site not later than 30 months after the date a notice declaring the site to be an active candidate for sanctuary designation is published in the Federal Register under regulations issued under this Act, or shall publish not later than such date in the Federal Register findings regarding why such notice has not been published.” Although the term is not defined in the Act or regulations, NOAA considers a site an active candidate on the day the notice of proposed rulemaking for the designation is published in the Federal Register.

In 2014, the former Governor of the State of Wisconsin and several lakeshore communities submitted to NOAA a successful nomination of the Wisconsin-Lake Michigan National Marine Sanctuary (WLMNMS). The 1,075 square mile area of waters and bottomlands located adjacent to Manitowoc, Sheboygan, and Ozaukee Counties would protect a collection of nationally significant maritime heritage resources. On February 5, 2015, NOAA added the site to the inventory of nominations that are eligible for sanctuary designation. The nomination package and related information may be found at https://nominate.noaa.gov/nominations/.

NOAA began the formal sanctuary designation process on October 7, 2015 with the publication in the Federal Register of a notice of intent to prepare a draft environmental impact statement (DEIS) and initiate the public process under the National Environmental Policy Act and the NMSA (80 FR 60631). On January 9, 2017, WLMNMS became an active candidate when notice of the proposed rule and the draft designation documents were published in the Federal Register (82 FR 2254). Therefore, the deadline for either designating the sanctuary or providing a public update as to its status is July 9, 2019. Accordingly, NOAA has determined that the sanctuary is still an active candidate for sanctuary designation.

Dated: July 10, 2019.
John Armor,
Director, Office of National Marine Sanctuaries.

[FR Doc. 2019-14922 Filed 7-12-19; 8:45 am]

BILLING CODE P